DEPARTMENT OF THE INTERIOR

Bureau of Indian Affairs

Plan for the Use and Distribution of the Confederated Tribes of the Warm Springs Reservation of Oregon Judgment Funds in Docket 02-126L Before the United States Federal Court of Claims

AGENCY: Bureau of Indian Affairs, Interior.

ACTION: Notice.

SUMMARY: Notice is hereby given that the plan for the use and distribution of the judgment funds awarded to the Confederated Tribes of the Warm Springs Reservation of Oregon v. U.S., Docket No. 02-261L, is effective as of December 18, 2009. The judgment funds were awarded by the United States Court of Federal Claims on January 16, 2009. The Tribal Council of the Confederated Tribes of the Warm Springs Reservation of Oregon enacted Tribal Resolution No. 10,997, on January 22, 2009, to accept the Tribal Use and Distribution Plan providing for the disposition of the settlement funds. Funds were appropriated on March 5, 2009.

FOR FURTHER INFORMATION CONTACT: Iris A. Drew, Bureau of Indian Affairs, Division of Tribal Government Services, 1001 Indian School Road, NW., Albuquerque, New Mexico 87104. Telephone number: (505) 563-3530.

SUPPLEMENTARY INFORMATION: On September 1, 2009, the plan for the use and distribution of the funds was submitted to Congress pursuant to the Indian Tribal Judgment Fund Act, 25 U.S.C. 1401 et seq. Receipt of the plan by the House of Representatives and the Senate was recorded in the Congressional Record on September 30, 2009, and September 8, 2009, respectively. The plan became effective on December 18, 2009, because a joint resolution disapproving it was not enacted. The plan reads as follows:

Plan

For the Use and Distribution of the Confederated Tribes of the Warm Springs Reservation of Oregon Judgment Funds in Docket No. 02-126L

The funds appropriated in satisfaction of the Settlement Agreement executed by the Confederated Tribes of the Warm Springs Reservation of Oregon and the United States Government in Docket No. 02-126L shall be used and distributed in accord with the terms of the Settlement Agreement. The settlement funds total Sixty-Eight Million Dollars ($68,000,000.00). The terms of the Settlement Agreement specifying the use and distribution of the settlement funds are reflected below.

Tribal Programming

A. Thirty-two Million Dollars ($32,000,000) of the settlement funds, as well as all income from the investment, shall be by the Tribe in its sole discretion for tribal operations and purposes (Settlement Agreement, paragraph 3.A.).

B. Twenty-nine Million Dollars ($29,000,000) of the settlement funds, as well as all income from the investment, shall be used to fund the implementation of the Strategic Restoration Plan for the Natural Resources on the Warm Springs Reservation (Settlement Agreement, paragraph 3.B. and Exhibit B).

C. Six Million Dollars ($6,000,000) of the settlement funds, as well as all income from the investment, shall be used by the Tribe to pay for a baseline assessment of the current conditions of the Tribe's natural resources on its Reservation, (which shall include the forest, range, roads, watersheds, and cultural resources) and/or to reimburse the Tribe for attorneys fees and costs and expert fees and costs incurred by the Tribe (Settlement Agreement, paragraphs 3.C. and 6).

D. Seven Hundred and Fifty Thousand Dollars ($750,000), as well as all income from the investment of such amount, shall be released to the Tribe for its sole discretion upon the Tribe's submission to the Interior Department, pursuant to 25 CFR 1000.17, 1000.20, 100.23 (2008), of a complete application that seeks self-governance over all of the forestry and natural resource management programs relating to the Tribe's On-Reservation Non-Monetary Trust Assets (Settlement Agreement, paragraph 3.D.).

E. Two Hundred and Fifty Thousand Dollars ($250,000), as well as all income from the investment of such amount, shall be released to the Tribe for use as it decided at its sole discretion, upon the execution by the Tribe and the Interior Department of mutually acceptable annual funding agreement relating to the Self-governance responsibilities described in D. of the Settlement Agreement. If the Tribe and the Interior fail to execute a mutually acceptable annual funding agreement within twenty-four (24) months of the date of the Tribe's submission of its application, as set forth in Paragraph 3.D. of the Settlement Agreement, One Hundred and Twenty-Five Thousand Dollars ($125,000), as well as all income from the investment of such amount, shall be released to the Tribe for use at its sole discretion (Settlement Agreement, paragraph 3.E.).

General Provisions

None of the funds distributed under this plan shall be subject to Federal or State income taxes, nor shall such funds nor their availability be considered as income or resources nor otherwise utilized as the basis for denying or reducing the financial assistance or other benefits to which such household or member would otherwise be entitled under the social Security Act, or any Federal or federally assisted programs.

Dated: February 19, 2010.
George T. Skibine,
Acting Principal Deputy Assistant Secretary—Indian Affairs.

[FR Doc. 2010-4119 Filed 2-26-10; 8:45 am]

BILLING CODE 4310-4J-P